U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on February 15, 2018 on “China's Military Reforms and Modernization: Implications for the United States.”

DATES: The hearing is scheduled for Thursday, February 15, 2018 from 9:00 a.m. to 3:20 p.m.

ADDRESSES: TBD, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale, 444 North Capitol Street NW, Suite 602, Washington, DC 20001; telephone: 202-624-1496, or via email at ltisdale@uscc.gov. Reservations are not required to attend the hearing.

SUPPLEMENTARY INFORMATION: Background: This is the second public hearing the Commission will hold during its 2018 report cycle. This hearing will provide insight into how China's ongoing military reform efforts are shaping the People's Liberation Army's long-term defense planning, weapons development, and acquisition programs. The hearing will specifically look at the political and security drivers shaping China's military modernization efforts, how the new Central Military Commission structure coordinates modernization priorities with the military services, examine the development of forces capable of conducting joint operations, and identify implications for the United States. The hearing will be co-chaired by Vice Chairman Carolyn Bartholomew and Senator James Talent. Any interested party may file a written statement by February 15, 2018, by mailing to the contact above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: January 24, 2018.
Kathleen Wilson,
Finance and Operations Director, U.S.-China Economic and Security, Review Commission.

[FR Doc. 2018-01674 Filed 1-29-18; 8:45 am]

BILLING CODE 1137-00-P